DEPARTMENT OF THE INTERIOR

Bureau of Land Management

[MT-010-L10600000 HI0000]

Notice of Temporary Closure on Public Lands in the Pryor Mountain Wild Horse Range (Including the Britton Springs Administrative Site) in the Southeastern Portion of Carbon County, MT, and the Northern Portion of Big Horn County, WY

AGENCY: Bureau of Land Management, Interior.

ACTION: Notice of Temporary Closure.

SUMMARY: Notice is hereby given that a temporary closure to public access, use, or occupancy is in effect on public lands administered by the Billings Field Office, Bureau of Land Management, in the Pryor Mountain Wild Horse Range in Carbon County, Montana, and Big Horn County, Wyoming.

DATES: This temporary closure will be in effect on the Pryor Mountain Wild Horse Range from 12:01 a.m. MDT on Monday, August 31, 2009 until September 10, 2009 at 11:59 p.m. MDT. The closure will remain in effect at the Britton Springs Administrative Site until 11:59 p.m. MDT on October 1, 2009.

ADDRESSES: The Billings Field Office address is 5001 Southgate Drive, Billings, Montana 59101.

FOR FURTHER INFORMATION CONTACT: James M. Sparks, Field Manager, at the address above or by phone at 406-896-5013. Persons who use a telecommunications device for the deaf (TDD) may call the Federal Information Relay Service (FIRS) at 1-800-877-8339 to contact the above individuals during normal business hours. The FIRS is available 24 hours a day, seven days a week, to leave a message or question with the above individuals. You will receive a reply during normal hours.

SUPPLEMENTARY INFORMATION: This temporary closure to public access affects public lands at the Pryor Mountain Wild Horse Range in Carbon County, Montana, and Bighorn County, Wyoming. The legal description of the affected public lands is:

Principal Meridian, Montana

T. 8 S., R. 28 E.,

Sec. 5, S½ and S½N½;

Sec. 6, E½E½;

Sec. 8, N½NE¼, SE¼NE¼, and NE¼SE¼;

Sec. 9;

Secs. 16 and 17;

Sec. 18, E½E½;

Sec. 19, E½E½;

Sec. 20;

Sec. 21, W½ and W½E½;

Sec. 28, W½;

Sec. 29;

Sec. 30, E½E½;

Sec. 31, E½E½;

Sec. 32;

Sec. 33, W½ and W½SE¼.

Principal Meridian, Montana

T. 9 S., R. 27 E.,

Secs. 1, 2, 11 to 14, inclusive, 23, and 24;

Sec. 25, E½ and E½NW¼;

Sec. 36, N½NE¼ and SE¼NE¼.

Principal Meridian, Montana

T. 9 S., R. 28 E.,

Sec. 4, NW¼NE¼, S½NE¼, W½, and SE¼;

Secs. 5 to 9, inclusive;

Sec. 10, W½SW¼;

Sec. 15, NW¼NW¼, S½NW¼, and SW¼;

Secs. 16 to 21, inclusive, and 28;

Sec. 27, W½;

Secs. 29 to 33, inclusive;

Sec. 34, W½.

Sixth Principal Meridian, Wyoming

T. 58 N., R. 95 W.,

Sec. 19, NE¼NE¼;

Sec. 20, N½N½, SE¼NW¼, S½NW¼, and SE¼;

Secs. 21 and 22;

Sec. 23, NW¼ and W½SW¼;

Sec. 27;

Sec. 28, N½;

Sec. 29, N½NE¼ and SE¼NE¼.

This temporary closure is necessary to prevent public access, use, or occupancy during wild horse capture operations to ensure the safety and welfare of the public, contractors, and government employees, the orderly execution of authorized actions, and to protect the wild horses as a natural resource on public lands. The gather operation includes the authorized use of low-flying aircraft to herd and capture wild horses from various portions of the Pryor Mountain Wild Horse Range and adjacent lands administered by the U.S. Forest Service. Animals will be held at the Britton Springs Administrative Site until September 26, 2009, for day-to-day care, veterinary treatment, and preparation for adoption. This will be the fourth time that helicopters are used as the primary tool for herding horses into capture pens on the Prior Mountain National Wild Horse Range. In order to operate the aircraft in a safe and effective manner, and based on experience gained in the 1997, 2001, and 2003 gathers, it is necessary to close the affected areas to all public use during actual capture operations. The wild horses primarily occupy three geographic areas of the range, including lands administered by the U.S. Forest Service, the area around Pen's Cabin, and the Dry Head/Layout Creek portions of the Bighorn Canyon National Recreation Area. Gather operations will be conducted at various times and locations to be determined by the contracting officer's representative in consultation with the contractor.

It is anticipated that the gather operation will take approximately seven days, but could last 10 days depending on weather, location of herds, success of capture operations, and other variable conditions. Areas subject to temporary closure include all lands within the Pryor Mountain Wild Horse Range administered by the Bureau of Land Management. Not all subject lands will be closed during the entire period; the public will be authorized to use those areas where capture operations are not in progress. Areas from which the public will be temporarily excluded will be dependent upon the actual area of operation which will be variable according to the needs of the contractor.

Areas temporarily closed to public access will be so posted at main entry points with signs, barricades, and copies of this temporary closure notice. Maps of the affected area and other documents associated with this closure area are available at the Billings Field Office, 5001 Southgate Drive, Billings, Montana 59101.

This temporary closure may be rescinded prior to September 10, 2009, if gather operations are successfully completed before that date. The Britton Springs area will remain temporarily closed until October 1, 2009, after horses are adopted or sold. Once gathering operations have been completed, the public will be allowed to view the horses held at Britton Springs prior to release or adoption at times to be arranged.

Further information may be obtained from the Pryor Mountain Wild Horse Range 2009 Gather and Population Management Plan and Environmental Assessment, #DOI—BLM—MT—C010-2009-35-EA. This document is available upon request from the Field Manager, Billings Field Office, Bureau of Land Management, 5001 Southgate Drive, Billings, Montana 59101.

Under the authority of section 303(a) of the Federal Land Policy and Management Act of 1976 (43 U.S.C. 1733(a)), 43 CFR 8360.0-7, and 43 CFR 8364.1, the Bureau of Land Management will enforce the following rule(s) within the Pryor Mountain Wild Horse Range:

Temporary Closure to public access, use or occupancy on public lands in the Pryor Mountain Wild Horse Range in the southeastern portion of Carbon County, Montana, and the northern portion of Big Horn County, Wyoming.

The following persons are exempt from this temporary closure: Federal, state, and local officers and employees in the performance of their official duties; members of organized rescue or fire-fighting forces in the performance of their official duties; and persons with written authorization from the Bureau of Land Management.

Any person who violates the above rule may be tried before a United States Magistrate and fined no more than $1,000, imprisoned for no more than 12 months, or both. Such violations may also be subject to the enhanced fines provided for by 18 U.S.C. 3571.

Howard A. Lemm,
Associate State Director.

[FR Doc. E9-20987 Filed 8-28-09; 8:45 am]

BILLING CODE 4310-DN-P